DEPARTMENT OF THE INTERIOR

National Park Service

[NPS-WASO-NAGPRA-NPS0035727; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center (RMSC) has completed an inventory of human remains and associated funerary objects and has determined that there is a cultural affiliation between the human remains and associated funerary objects and Indian Tribes or Native Hawaiian organizations in this notice. The human remains and associated funerary objects were removed from Oswego County, New York, and from an unknown location in western New York.

DATES: Repatriation of the human remains and associated funerary objects in this notice may occur on or after May 29, 2023.

ADDRESSES: Kathryn Murano Santos, Rochester Museum & Science Center, 657 East Avenue, Rochester, NY 14607, telephone (585) 697-1929, email kmurano@rmsc.org.

SUPPLEMENTARY INFORMATION: This notice is published as part of the National Park Service's administrative responsibilities under NAGPRA. The determinations in this notice are the sole responsibility of the Rochester Museum & Science Center. The National Park Service is not responsible for the determinations in this notice. Additional information on the determinations in this notice, including the results of consultation, can be found in the inventory or related records held by the Rochester Museum & Science Center.

Description

Human remains representing, at minimum, two individuals were removed from the Candee Farm (Bwv 005) in Oswego County, NY. These human remains were collected by William H. Jennings and George Flansburg, and they were acquired by the RMSC in 1937. No known individuals were identified. The four associated funerary objects are two worked flint tools and two unfinished projectile points.

Human remains representing, at minimum, four individuals were removed from the Luke Site (Bwv 017) in Oswego County, NY. These human remains were collected by Charles Denman, and they were donated to the RMSC in 1947. No known individuals were identified. No associated funerary objects are present.

Human remains representing, at minimum, 11 individuals were removed from the Oberlander 1 Site (Syr 004) in Oswego County, NY. These human remains were acquired during RMSC expeditions conducted from 1937 to 1938. No known individuals were identified. The 20 associated funerary objects are one chert; one lot of faunal bones; one lot of soil refuse; one lot of chert flakes and biface fragments; two lots of chert flakes; one piece of charred material; two pieces of charcoal; one biface; one lot of biface fragments; two pieces of charred wood; three lots of pottery sherds; one pottery sherd; one lot of pottery sherd pieces; one lot of mixed soil and bones; and one chert cache blade.

Human remains representing, at minimum, 19 individuals were removed from the Oberlander 2 Site (Syr 003) in Oswego County, NY. These human remains were excavated during an RMSC expedition conducted in 1938. No known individuals were identified. Of the 223 associated funerary objects, 204 are present in the RMSC collections and 19 are currently missing. The 204 present associated funerary objects are one lot of pipe fragments; one lot of chert flakes; three lots of charred material; one lot of grey ash samples; one lot of charred wood; one lot of charred wood and faunal bone; one lot of charcoal, bone, flint; two lots of native copper awls; one lot of worked wood fragments; one antler tip; one lot of projectile point fragments; one triangular chert scraper/perforator; one side-notched base; six side-notched chert projectile points with missing tip; one side-notched projectile point; one stemmed chert projectile point with missing tip and side; one side-notched chert projectile point with a broken base; one triangular chert blade; one chert perforator with a missing base; one lot of sherd pieces; two chert and sherd blades; one copper awl; one notched sandstone chopper; one chert knife; five notched chert projectile points; one chert knife base; one sandstone hammerstone; one beaver incisor knife; one broken bone harpoon; three bone awls; one half of a schist gorget; one sandstone anvil stone; five chert perforators; one Plano convex granite gneiss adze; one chert pecking hammer; one sandstone waterworn pebble; two broken chert blades; six chert end scrapers; three chert blade fragments; one stemmed chert projectile point base; one retouched flake chert blade; one lot of chert scrapers and sherds; one lot of native copper awl fragments; two reworked slate gorget fragments; one end scraper; one chert perforator base; one broken chert perforator; one broken chert projectile point; one lot of bone implement; one bone harpoon; one chert perforator with missing tip; one broken side-notched chert projectile point; one whetstone; one broken perforator; one anvil stone; one broken burnt bone implement; one steatite sherd; 12 lots of side-notched chert projectile points; one triangular chert projectile point; one chert projectile point; one chert perforator/scraper; one chert cache blade base; one stemmed chert base; one burnt bone implement; one burnt worked antler fragment; one slate whetstone; one sandstone whetstone; two celts; two pyrites strike-a-lights; two chert flint strikers; six lots of triangular chert scrapers; one chert projectile point with missing base; one burnt bone needle fragment; one burnt antler engraver handle(?); one lot of fragmentary burnt bone awls; two burnt bone awl tip & fragments; two shale gorget fragments; one banded slate bird stone with a broken nose; one semi lozenge projectile point with missing tip; one chert cache blade with missing tip and base; two chert cache blades with missing tip; one sandstone bird stone; one pottery tube fragment; one notched chert projectile point base; three lots of sherds; three slate gorget fragments; one lot of hematite pieces; three lots of cache blades; one side-notched chert projectile point fragment; 31 lots of chert cache blades; three broken chert cache blades; one semi lozenge chert projectile point with missing tip; six chert projectile point tips; one chert blade tip; one schist adze(?) fragment; one chert blade or reject fragment; one burnt bone awl tip; one slate gorget; one schist adze bit fragment; one burnt bone awl fragment; one hammerstone; one slightly notched chert projectile point with missing tip; one stemmed chert scraper or base; one Plano convex schistose material adze; one steatite rim sherd; one schistose material tool fragment; one stemmed chalcedonous chert spearhead; one worked slate; one broken bone implement; one sandstone chopper; and one charred bark and leather. The 19 associated funerary objects currently missing are one notched barbed chert projectile point; three side-notched chert projectile points; one perforator fragment; one broken chert scraper; one triangular chert scraper; three lots of sherds; one worked hematite; one celt; one chert blade tip; one stemmed chalcedonous chert projectile point; one stemmed chert scraper; one chert blade fragment; one chert cache blade; one chert perforator; and one lot of soil. The RMSC continues to look for the missing objects.

Human remains representing, at minimum, one individual were removed from the Wickham Site (Syr 001) in Oswego County, NY. These human remains were collected by W.A. Ritchie during an RMSC expedition conducted in 1945. No known individual was identified. No associated funerary objects are present.

Human remains representing, at minimum, one individual were removed from an unknown location in western New York. These human remains were collected by S.P. Moulthrup on an unknown date. No known individual was identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Rochester Museum & Science Center has determined that:

• The human remains described in this notice represent the physical remains of 38 individuals of Native American ancestry.

• The 247 objects described in this notice are reasonably believed to have been placed with or near individual human remains at the time of death or later as part of the death rite or ceremony.

• There is a relationship of shared group identity that can be reasonably traced between the human remains and associated funerary objects described in this notice and the Cayuga Nation; Oneida Indian Nation; Oneida Nation; Onondaga Nation; Sac & Fox Nation of Missouri in Kansas and Nebraska; Sac & Fox Nation, Oklahoma; Sac & Fox Tribe of the Mississippi in Iowa; Saint Regis Mohawk Tribe; Seneca Nation of Indians; Seneca-Cayuga Nation; Tonawanda Band of Seneca; Tuscarora Nation; and the Wyandotte Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 29, 2023. If competing requests for repatriation are received, the Rochester Museum & Science Center must determine the most appropriate requestor prior to repatriation. Requests for joint repatriation of the human remains and associated funerary objects are considered a single request and not competing requests. The Rochester Museum & Science Center is responsible for sending a copy of this notice to the Indian Tribes identified in this notice.

Authority: Native American Graves Protection and Repatriation Act, 25 U.S.C. 3003, and the implementing regulations, 43 CFR 10.9, § 10.10, and § 10.14.

Dated: April 19, 2023.
Melanie O'Brien,
Manager, National NAGPRA Program.

[FR Doc. 2023-08893 Filed 4-26-23; 8:45 am]

BILLING CODE 4312-52-P